DEPARTMENT OF COMMERCE

National Oceanic and Atmospheric Administration

[I.D. 070201D]

Pacific Fishery Management Council; Public Meeting

AGENCY: National Marine Fisheries Service (NMFS), National Oceanic and Atmospheric Administration (NOAA), Commerce.

ACTION: Notice of public meetings.

SUMMARY: A subcommittee of the Pacific Fishery Management Council's (Council) Ad Hoc Groundfish Strategic Plan Implementation Oversight Committee will hold a telephone conference, which is open to the public.

DATES: The telephone conference will be held Tuesday, July 31, 2001, from 2 p.m. to 4 p.m.

ADDRESSES: Four listening stations will be available at the following locations:

1. National Marine Fisheries Service, Northwest Region Director's Conference Room 7600 Sand Point Way NE, Building 1 Seattle, WA 98115

Contact: Mr. Bill Robinson, (206) 526-6267

2. Pacific Fishery Management Council 7700 NE Ambassador Place, Suite 200 Portland, OR 97220-1384

Contact: Mr. John DeVore, (503) 326-6352

3. California Department of Fish and Game Conference Room, Room 1320 1416 Ninth Street Sacramento, CA 95814

Contact: Mr. LB Boydstun, (916) 653-6281

4. Washington Department of Fish and Wildlife Natural Resource Building, Room 677 1111 Washington Street SE Olympia, WA 98501

Contact: (360) 902-2819

Council address: Pacific Fishery Management Council, 7700 NE Ambassador Place, Suite 200, Portland, OR 97220-1384.

FOR FURTHER INFORMATION CONTACT: Mr. John DeVore, telephone: (503) 326-6352.

SUPPLEMENTARY INFORMATION: The purpose of the telephone conference is to continue development of an analysis of the measures needed for the conversion of the open access fishery to limited entry.

Although non-emergency issues not contained in the meeting agenda may come before the subcommittee for discussion, those issues may not be the subject of formal subcommittee action during this meeting. Subcommittee action will be restricted to those issues specifically listed in this notice and any issues arising after publication of this notice that require emergency action under section 305(c) of the Magnuson-Stevens Fishery Conservation and Management Act, provided the public has been notified of the subcommittee's intent to take final action to address the emergency.

Special Accommodations

This meeting is physically accessible to people with disabilities. Requests for sign language interpretation or other auxiliary aids should be directed to Ms. Carolyn Porter at (503) 326-6352 at least 5 days prior to the meeting date.

Dated: July 3, 2001.
Richard W. Surdi,
Acting Director, Office of Sustainable Fisheries, National Marine Fisheries Service.

[FR Doc. 01-17097 Filed 7-6-01; 8:45 am]

BILLING CODE 3510-22-S